DEPARTMENT OF THE TREASURY

Internal Revenue Service

26 CFR Part 1

[REG-134247-16]

RIN 1545-BN73

Revision of Regulations Under Chapter 3 Regarding Withholding of Tax on Certain U.S. Source Income Paid to Foreign Persons; Correction

AGENCY: Internal Revenue Service (IRS), Treasury.

ACTION: Notice of proposed rulemaking; correction.

SUMMARY: This document contains a correction to a notice of proposed rulemaking (REG-134247-16) that was published in the Federal Register on Friday, January 6, 2017 (82 FR 1645). The notice of proposed rulemaking under section 1441 of the Internal Revenue Code of 1986 (Code) relates to withholding of tax on certain U.S. source income paid to foreign persons and requirements for certain claims for refund or credit of income tax made by foreign persons.

DATES: This correction is effective September 15, 2017 and is applicable beginning January 6, 2017.

FOR FURTHER INFORMATION CONTACT: Kamela Nelan at (202) 317-6942 (not a toll-free number).

SUPPLEMENTARY INFORMATION:

Background

The notice of proposed rulemaking (REG-134247-16) that is the subject of this correction is under section 1441 of the Code.

Need for Correction

As published, the notice of proposed rulemaking (REG-134247-16) contains an omission which may prove to be misleading and needs to be corrected.

Correction of Publication

Accordingly, the notice of proposed rulemaking (82 FR 1645, January 6, 2017) is corrected as follows:

On page 1636, insert the following language after the twenty-third line from the top of the third column:

“Withdrawal of Notice of Proposed Rulemaking

Accordingly, under the authority of 26 U.S.C. 7805, the notice of proposed rulemaking (REG-134361-12) that was published in the Federal Register on Thursday, March 6, 2014 (79 FR 12880) is withdrawn.”

Martin V. Franks,
Chief, Publications and Regulations Branch, Legal Processing Division, Associate Chief Counsel, (Procedure and Administration).

[FR Doc. 2017-19538 Filed 9-14-17; 8:45 am]

BILLING CODE 4830-01-P